NUCLEAR REGULATORY COMMISSION

[NRC-2019-0153]

Standard Format and Content of License Termination Plans for Nuclear Power Reactors

AGENCY: Nuclear Regulatory Commission.

ACTION: Regulatory guide; issuance.

SUMMARY: The U.S. Nuclear Regulatory Commission (NRC) is issuing Revision 2 to Regulatory Guide (RG) 1.179, “Standard Format and Content of License Termination Plans for Nuclear Power Reactors.” This RG (Revision 2) provides general procedures acceptable to the NRC staff for the preparation of license termination plans (LTPs) for nuclear power reactors. This RG also describes the acceptable format and content of LTPs for nuclear power reactor licensees to terminate their licenses and release their sites. Revision 2 does not contain substantive changes in the NRC staff's regulatory guidance since Revision 1 was issued. It provides updated references, minor corrections, and other editorial changes.

DATES: Revision 2 to RG 1.179 is available on July 30, 2019.

ADDRESSES: Please refer to Docket ID NRC-2019-0153 when contacting the NRC about the availability of information regarding this document. You may obtain publicly-available information related to this document, using the following methods:

• Federal Rulemaking Website: Go to https://www.regulations.gov/ and search for Docket ID NRC-2019-0153. Address questions about NRC docket IDs in Regulations.gov to Jennifer Borges Roman; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Document collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 to Regulatory Guide 1.179 may be found in ADAMS under Accession No. ML19128A067.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Steve Giebel, Office of Nuclear Material Safety and Safeguards, telephone: 301-415-5526, email: Steve.Giebel@nrc.gov, and Harriet Karagiannis, Office of Nuclear Regulatory Research, telephone: 301-415-2493, email: Harriet.Karagiannis@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

The NRC typically seeks public comment on a draft version of a regulatory guide by announcing its availability for comment in the Federal Register. However, the NRC may directly issue a final regulatory guide without a draft version or public comment period if the changes to the regulatory guide are non-substantive.

The NRC is issuing Revision 2 of RG 1.179 directly as a final RG because the changes are non-substantive. Revision 2 of RG 1.179 incorporates updated references, minor corrections, and other editorial changes to be aligned with NUREG-1700, “Standard Review Plan for Evaluating Nuclear Power Reactor License Termination Plans,” Revision 2, issued April 2018. The changes in Revision 2 of the RG are administrative in nature. The changes are intended to improve clarity and do not substantially alter the NRC staff's regulatory guidance for the acceptable format and content of LTPs for nuclear power reactor licensees.

II. Backfitting and Issue Finality

Issuance of this regulatory guide does not constitute backfitting as defined in title 10 of the Code of Federal Regulations (10 CFR) 50.109, “Backfitting” (the Backfit Rule), and is not otherwise inconsistent with the issue finality provisions in 10 CFR part 52. As discussed in the “Implementation” section of RG 1.179, revision 2, the NRC has no current intention to impose the RG on current holders of an operating license or combined license.

III. Congressional Review Act

This RG is a rule as defined in the Congressional Review Act (5 U.S.C. 801-808). However, the Office of Management and Budget has not found it to be a major rule as defined in the Congressional Review Act.

IV. Submitting Suggestions for Improvement of Regulatory Guides

Revision 2 of RG 1.179 is being issued without public comment. However, you may at any time submit suggestions to the NRC for improvement of existing RGs or for the development of new RGs to address new issues. Suggestions can be submitted by the form available online at https://www.nrc.gov/reading-rm/doc-collections/reg-guides/contactus.html. Suggestions will be considered in future updates and enhancements of the RG.

Dated at Rockville, Maryland, this 24th day of July 2019.
For the Nuclear Regulatory Commission.
Thomas H. Boyce,
Chief, Regulatory Guidance and Generic Issues Branch, Division of Engineering, Office of Nuclear Regulatory Research.

[FR Doc. 2019-16068 Filed 7-29-19; 8:45 am]

BILLING CODE 7590-01-P